DEPARTMENT OF TRANSPORTATION

Federal Aviation Administration

14 CFR Part 39

[Docket No. FAA-2013-0688; Directorate Identifier 2012-NM-221-AD; Amendment 39-17683; AD 2013-24-09]

RIN 2120-AA64

Airworthiness Directives; EADS CASA (Type Certificate Previously Held by Construcciones Aeronáuticas, S.A.) Airplanes

AGENCY: Federal Aviation Administration (FAA), Department of Transportation (DOT).

ACTION: Final rule.

SUMMARY: We are adopting a new airworthiness directive (AD) for certain EADS CASA (Type Certificate Previously Held by Construcciones Aeronáuticas, S.A.) Model C-212-CB, C-212-CC, C-212-CD, C-212-CE, and C-212-DF airplanes. This AD was prompted by a report of the propeller pitch control (PPC) lever becoming disconnected from the engine due to a missing bolt. This AD requires modifying the PPC lever attachment system. We are issuing this AD to prevent PPC shaft disconnection, which could lead to a loss of propeller pitch control, possibly resulting in uncommanded change to the engine power settings and consequent reduced controllability of the airplane.

DATES: This AD becomes effective January 21, 2014.

The Director of the Federal Register approved the incorporation by reference of a certain publication listed in this AD as of January 21, 2014.

ADDRESSES: You may examine the AD on the Internet at http://www.regulations.gov/#!docketDetail;D=FAA-2013-0688; or in person at the U.S. Department of Transportation, Docket Operations, M-30, West Building Ground Floor, Room W12-140, 1200 New Jersey Avenue SE., Washington, DC.

For EADS-CASA service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net. For Honeywell service information identified in this AD, contact Honeywell International Inc., 111 S. 34th Street, Phoenix, AZ 85034-2802; Internet: http://portal.honeywell.com; telephone: 800-601-3099. You may view this referenced service information at the FAA, Transport Airplane Directorate, 1601 Lind Avenue SW., Renton, WA. For information on the availability of this material at the FAA, call 425-227-1221.

FOR FURTHER INFORMATION CONTACT: Shahram Daneshmandi, Aerospace Engineer, International Branch, ANM-116, Transport Airplane Directorate, FAA, 1601 Lind Avenue SW., Renton, Washington 98057-3356; telephone (425) 227-1112; fax (425) 227-1149.

SUPPLEMENTARY INFORMATION:

Discussion

We issued a notice of proposed rulemaking (NPRM) to amend 14 CFR part 39 to include an AD that would apply to the specified products. The NPRM published in the Federal Register on August 13, 2013 (78 FR 49235). The NPRM proposed to correct an unsafe condition for the specified products.

The European Aviation Safety Agency (EASA), which is the Technical Agent for the Member States of the European Community, has issued EASA Airworthiness Directive 2012-0251, dated November 27, 2012 (referred to after this as the Mandatory Continuing Airworthiness Information, or “the MCAI”), to correct an unsafe condition for the specified products. The MCAI states:

An occurrence was reported where the propeller pitch control (PPC) lever disconnected from the engine (a TPE331-10R-511C) on a C-212-CC aeroplane.

The result of the subsequent investigation revealed that the PPC lever disconnection occurred due to a missing bolt, which fixes the clamp that joins the PPC lever to the PPC rod.

This condition, if not corrected, could lead to a loss of an affected propeller pitch control, possibly resulting in uncommanded change to the engine power settings and consequent reduced control of the aeroplane.

To address this potential unsafe condition, EADS-CASA developed a modification (mod 10515) that eliminates the possibility of PPC shaft disconnection and made this available through Service Bulletin SB-212-76-0009 to be applied in service.

For the reasons described above, this [EASA] AD requires modification of PPC lever attachment system.

You may examine the MCAI in the AD docket on the Internet at http://www.regulations.gov/#!documentDetail;D=FAA-2013-0688-0002.

Comments

We gave the public the opportunity to participate in developing this AD. We received no comments on the NPRM (78 FR 49235, August 13, 2013) or on the determination of the cost to the public.

Explanation of Change Made to the AD

We have changed paragraph (c) of this AD to remove EADS CASA (Type Certificate previously held by Construcciones Aeronáuticas, S.A.) Model C-212-CF airplanes, which were included in the NPRM (78 FR 49235, August 13, 2013) in error.

Conclusion

We reviewed the available data and determined that air safety and the public interest require adopting this AD as proposed. We have determined that these minor changes:

• Are consistent with the intent that was proposed in the NPRM (78 FR 49235, August 13, 2013) for correcting the unsafe condition; and

• Do not add any additional burden upon the public than was already proposed in the NPRM (78 FR 49235, August 13, 2013).

Costs of Compliance

We estimate that this AD affects 42 airplanes of U.S. registry.

We estimate the following costs to comply with this AD:

Estimated Costs
Action | Labor cost | Parts cost | Cost per product | Cost on U.S. operators
Modification | 20 work-hours × $85 per hour = $1,700 | $1,018 | $2,718 | $114,156

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the MCAI in the AD docket on the Internet at http://www.regulations.gov/#!documentDetail;D=FAA-2013-0688-0002; or in person at the Docket Operations office between 9 a.m. and 5 p.m., Monday through Friday, except Federal holidays. The AD docket contains this AD, the regulatory evaluation, any comments received, and other information. The street address for the Docket Operations office (telephone (800) 647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-24-09 EADS CASA (Type Certificate Previously Held by Construcciones Aeronáuticas, S.A.): Amendment 39-17683. Docket No. FAA-2013-0688; Directorate Identifier 2012-NM-221-AD.

(a) Effective Date

This airworthiness directive (AD) becomes effective January 21, 2014.

(b) Affected ADs

None.

(c) Applicability

This AD applies to EADS CASA (Type Certificate previously held by Construcciones Aeronáuticas, S.A.) Model C-212-CB, C-212-CC, C-212-CD, C-212-CE, and C-212-DF airplanes; certificated in any category; all serial numbers, except those that have been modified in production to incorporate EADS CASA Modification 10515.

(d) Subject

Air Transport Association (ATA) of America Code 76, Engine Controls.

(e) Reason

This AD was prompted by a report of the propeller pitch control (PPC) lever becoming disconnected from the engine due to a missing bolt. We are issuing this AD to prevent PPC shaft disconnection, which could lead to a loss of propeller pitch control, possibly resulting in uncommanded change to the engine power settings and consequent reduced controllability of the airplane.

(f) Compliance

You are responsible for having the actions required by this AD performed within the compliance times specified, unless the actions have already been done.

(g) Modification

Within 24 months after the effective date of this AD, modify the PCC lever attachment system of the aircraft engine, in accordance with the Accomplishment Instructions of EADS-CASA Service Bulletin SB-212-76-0009, Revision 1, dated August 03, 2012.

Note 1 to paragraph (g) of this AD: EADS-CASA Service Bulletin SB-212-76-0009, Revision 1, dated August 03, 2012, refers to Honeywell Service Bulletin TPE331-72-2190, dated December 21, 2011, as an additional source of guidance for modifying the cam assembly.

(h) Other FAA AD Provisions

The following provisions also apply to this AD:

(1) Alternative Methods of Compliance (AMOCs): The Manager, ANM-116, International Branch, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Shahram Daneshmandi, Aerospace Engineer, International Branch, ANM-116, Transport Airplane Directorate, FAA, 1601 Lind Avenue SW., Renton, Washington 98057-3356; telephone (425) 227-1112; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

(1) Refer to Mandatory Continuing Airworthiness Information (MCAI) EASA Airworthiness Directive 2012-0251, dated November 27, 2012, for related information. You may examine the MCAI in the AD docket on the Internet at http://www.regulations.gov/#!documentDetail;D=FAA-2013-0688-0002.

(2) Honeywell service information referenced in this AD can be obtained from Honeywell International Inc., 111 S. 34th Street, Phoenix, AZ 85034-2802; Web site: http://portal.honeywell.com; or call Honeywell toll free at phone: 800-601-3099 (U.S./Canada) or 602-365-3099 (International Direct).

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) EADS-CASA Service Bulletin SB-212-76-0009, Revision 1, dated August 03, 2012.

(ii) Reserved.

(3) For EADS-CASA service information identified in this AD, contact EADS-CASA, Military Transport Aircraft Division (MTAD), Integrated Customer Services (ICS), Technical Services, Avenida de Aragón 404, 28022 Madrid, Spain; telephone +34 91 585 55 84; fax +34 91 585 55 05; email MTA.TechnicalService@casa.eads.net; Internet http://www.eads.net.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on November 15, 2013.
John Piccola,
Acting Manager, Transport Airplane Directorate, Aircraft Certification Service.

[FR Doc. 2013-29050 Filed 12-13-13; 8:45 am]

BILLING CODE 4910-13-P